SURFACE TRANSPORTATION BOARD

[Docket No. EP 774 (Sub-No. 2)]

Notice of Passenger Rail Advisory Committee Meeting

AGENCY: Surface Transportation Board.

ACTION: Notice of Passenger Rail Advisory Committee meeting.

SUMMARY: Notice is hereby given of a meeting of the Passenger Rail Advisory Committee (PRAC), pursuant to the Federal Advisory Committee Act (FACA).

DATES: The meeting will be held on February 11, 2025, at 9:00 a.m. E.T.

ADDRESSES: The meeting will be held at the Surface Transportation Board headquarters at 395 E Street SW, Washington, DC 20423.

FOR FURTHER INFORMATION CONTACT: Brian O'Boyle at (202) 245-0364 or Brian.Oboyle@stb.gov. If you require an accommodation under the Americans with Disabilities Act for this meeting, please call (202) 245-0245 by February 7, 2025.

SUPPLEMENTARY INFORMATION: The PRAC was formed in 2023 to provide advice and guidance to the Board on passenger rail issues on a continuing basis to help the Board better fulfill its statutory responsibilities in overseeing certain aspects of passenger rail service. Establishment of the Passenger Rail Advisory Comm., EP 774 (STB served Nov. 13, 2023). The purpose of this meeting is to facilitate discussions regarding ideas on how to improve efficiency on passenger rail routes, reduce disputes between passenger rail carriers and freight rail hosts, and improve regulatory processes related to intercity passenger rail. Potential agenda items for this meeting include selection and prioritization of topics for further exploration by the PRAC, initial discussions regarding the selected topics, and discussion of draft bylaws.

The meeting, which is open to the public, will be conducted in accordance with FACA, 5 U.S.C. app. 2; Federal Advisory Committee Management regulations, 41 CFR part 102-3; PRAC's charter; and Board procedures. Further communications about this meeting may be announced through the Board's website at www.stb.gov.

Written Comments: Members of the public may submit written comments to PRAC at any time. Comments should be addressed to PRAC, c/o Brian O'Boyle, Surface Transportation Board, 395 E Street SW, Washington, DC 20423-0001 or Brian.Oboyle@stb.gov. Please submit any comments for review at the meeting by February 7, 2025, if possible.

Authority: 49 U.S.C. 1321, 11101, and 11121.

Decided: January 17, 2025.
By the Board, Scott M. Zimmerman, Acting Director, Office of Proceedings.
Jeffrey Herzig,
Clearance Clerk.

[FR Doc. 2025-01605 Filed 1-22-25; 8:45 am]

BILLING CODE 4915-01-P